DEPARTMENT OF DEFENSE

Department of the Army

32 CFR Part 589

[Docket ID: USA-2020-HQ-0009]

RIN 0702-AB10

Compliance With Court Orders by Personnel and Command Sponsored Family Members

AGENCY: Department of the Army, DoD.

ACTION: Final rule.

SUMMARY: This final rule removes DoD's regulation concerning policies on compliance with court orders by DoD employees and DoD Members. The purpose of the DoD Instruction on which this rule is based is to provide internal guidance to DoD Components on cooperation with law enforcement agencies. Although civil authorities, who may be considered the public for rule-making purposes, may request support from DoD, this rule neither confers a benefit not otherwise provided for in statute nor imposes a burden on civil authorities. Further, the rule does not limit DoD assistance to qualifying entities in a way that is inconsistent with the statutory framework. Therefore, this part can be removed from the CFR.

DATES: This rule is effective on October 14, 2020.

FOR FURTHER INFORMATION CONTACT: Ms. Mary Sturm, 703-697-5290, email: mary.a.sturm.civ@mail.mil.

SUPPLEMENTARY INFORMATION: It has been determined that publication of this CFR part removal for public comment is impracticable, unnecessary, and contrary to public interest since it is based on removing DoD internal policies and procedures that are publicly available on the Department's issuance website. The rule was published November 8, 1990 (55 FR 47042). This rule contained internal policy included in DoD Directive 5525.09 concerning DoD cooperation with courts and federal, state, and local officials in enforcing court orders pertaining to military personnel and DoD employees serving outside the United States, as well as their command sponsored family members. The current rule conveys internal Army policy and implementation in Army Regulation (AR) 190-9, where it is the policy of the Department of the Army to cooperate with civilian authorities unless the best interest of the Army will be prejudiced. AR 630-10 provides the personnel management policies and procedures on the surrender of soldiers to civilian authorities.

DoD internal guidance will continue to be published in AR 190-9, “Absentee Deserter Apprehension Program and Surrender of Military Personnel to Civilian Law Enforcement Agencies”; and AR 630-10, “Absence without Leave, Desertion and Administration of Personnel Involved in Civilian Court Proceedings,” which are available at https://www.armypubs.army.mil.

The rule does not place a burden on the public and therefore does not provide a burden reduction or cost savings by its repeal.

This rule is not significant under Executive Order (E.O.) 12866, “Regulatory Planning and Review.” Therefore, E.O. 13771, “Reducing Regulation and Controlling Regulatory Costs,” does not apply.

List of Subjects in 32 CFR Part 589

Courts, Government employees.

PART 589—[REMOVED]

Accordingly, by the authority of 5 U.S.C. 301, 32 CFR part 589 is removed.

Brenda S. Bowen,
Army Federal Register Liaison Officer.

[FR Doc. 2020-21793 Filed 10-13-20; 8:45 am]

BILLING CODE 5061-AP-P